DEPARTMENT OF THE INTERIOR

National Park Service

Notice of Intent to Repatriate Cultural Items: U.S. Department of the Interior, Bureau of Indian Affairs, Washington, DC, and Arizona State Museum, University of Arizona, Tucson, AZ

AGENCY: National Park Service, Interior.

ACTION: Notice.

Notice is here given in accordance with the Native American Graves Protection and Repatriation Act (NAGPRA), 25 U.S.C. 3005, of the intent to repatriate cultural items in the control of the U.S. Department of the Interior, Bureau of Indian Affairs, Washington, DC, and in the physical custody of the Arizona State Museum, University of Arizona, Tucson, AZ, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 366 cultural items are 33 shell beads, 19 stone beads, 60 beads of unspecified material, 7 bone artifact fragments, 1 bone ornament, 6 ceramic artifacts, 1 ceramic bowl, 1 ceramic figurine, 1 glycymeris shell, 110 glycymeris shell bracelet fragments, 2 horn artifacts, 74 projectile points, 4 projectile point fragments, 16 sandstone abrader fragments, 5 sandstone plaque fragments, 1 shell artifact, 3 shell artifact fragments, 11 shell fragments, 4 shell pendants, 1 stone artifact, 2 stone bowl fragments, 1 stone palette fragment, 1 stone ring, and 2 drilled turquoise pieces.

The cultural items were removed in 1934¯35, during archeological excavations conducted by the Gila Pueblo Foundation of Arizona, and in 1964¯65 during excavations by University of Arizona personnel at the Snaketown site (AZ U:13:1 ASM), on the Gila River Indian Reservation, Pinal County, AZ. Other unassociated funerary objects from this site were published in a notice of intent to repatriate in the Federal Register on March 20, 2001, pages 15741¯42, FR Doc. 01¯6897.

The archeological evidence, including characteristics of portable material culture, attributes of ceramic styles, domestic and ritual architecture, site organization, and canal¯based agriculture of the settlement places the Snaketown site within the archeologically¯defined Hohokam tradition, and within the Phoenix Basin local variant of that tradition. The occupation of the Snaketown site spans the years circa A.D. 500/700¯1100/1150.

Continuities of mortuary practices, ethnographic materials, and technology indicate affiliation of Hohokam settlements with present¯day O'odham (Piman), Pee Posh (Maricopa), and Puebloan cultures. Oral traditions documented for the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico support affiliation with Hohokam sites in central Arizona.

Officials of the Bureau of Indian Affairs and Arizona State Museum have determined that, pursuant to 25 U.S.C. 3001 (3)(B), the cultural items are reasonably believed to have been placed with or near individual human remains at the time of death or later as part of the death rite or ceremony and are believed, by a preponderance of the evidence, to have been removed from a specific burial site of a Native American individual. Officials of the Bureau of Indian Affairs and Arizona State Museum also have determined that, pursuant to 25 U.S.C. 3001 (2), there is a relationship of shared group identity that can be reasonably traced between the cultural items and the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico. The Zuni Tribe has withdrawn from this consultation. The Gila River Indian Community of the Gila River Indian Reservation, Arizona, is acting on behalf of the Ak Chin Indian Community of the Maricopa (Ak Chin) Indian Reservation, Arizona; Salt River Pima¯Maricopa Indian Community, Arizona; Tohono O'odham Nation of Arizona; and themselves.

Representatives of any other Indian tribe that believes itself to be culturally affiliated with these cultural items should contact John Madsen, Repatriation Coordinator, Arizona State Museum, University of Arizona, Tucson, AZ 85721, telephone (520) 621¯4795, before January 21, 2005. Repatriation of the cultural items to the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico may proceed after that date if no additional claimants come forward.

The Arizona State Museum is responsible for notifying the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico that this notice has been published.

Dated: November 16, 2004
Sherry Hutt,
Manager, National NAGPRA Program.

[FR Doc. 04-27999 Filed 12-21-04; 8:45 am]

BILLING CODE 4312-50-S